DEPARTMENT OF THE INTERIOR

Bureau of Land Management

[UT-910-05-1040-PH-24-1A]

Notice of Utah Resource Advisory Council and Grand Staircase-Escalante National Monument Advisory Committee Meetings

AGENCY: Bureau of Land Management, Department of Interior.

ACTION: Notice of Utah Resource Advisory Council (RAC) and Grand Staircase-Escalante National Monument Advisory Council (GSENMAC) meetings.

SUMMARY: In accordance with the Federal Land Policy and Management Act (FLPMA) and the Federal Advisory Committee Act of 1972 (FACA), the U.S. Department of the Interior, Bureau of Land Management (BLM) Utah Resource Advisory Council (RAC) and the Grand Staircase-Escalante National Monument Advisory Committee (GSENMAC) will meet as indicated below.

DATES: The Utah Resource Advisory Council (RAC) and Grand Staircase-Escalante National Monument's Advisory Committee (GSENMAC) will meet January 26-27, 2005, in Kanab, Utah.

The RAC will meet January 26 from 1 p.m.-5 p.m. at the GSENM's headquarters conference room located at 190 East Center Street, Kanab. A half-hour public comment period is scheduled to begin at 4:15 p.m. Written comments may be sent to the Bureau of Land Management address listed below.

On January 26, the GSENMAC will met at the Kanab City Library's multi-purpose conference room from 9:30 a.m. until 6 p.m. The library is located at 374 North Main Street, Kanab. A public comment period has been scheduled from 5 p.m.-6 p.m. Written comments may be sent to the GSENM at the address listed below.

On January 27, from 8 a.m. until noon, the RAC and GSENMAC will have a joint meeting at the Kanab City Library's multi-purpose conference room. The GSENMAC will continue their meeting until 4:30 p.m.

FOR FURTHER INFORMATION CONTACT: Sherry Foot, Special Programs Coordinator, Utah State Office, Bureau of Land Management, 324 South State Street, Salt Lake City, Utah, 84111; phone (801) 539-4195, or Allysia Angus, Landscape Architect/Land Use Planner, GSENM Headquarters Office, 190 E. Center Street, Kanab, Utah, 84741; phone (435) 644-4388.

SUPPLEMENTARY INFORMATION: On January 26, the RAC will be discussing their role in the process of reviewing transportation plans for future RMPs; improving RMP communications; follow-up discussion on the letter sent to the Congressional Delegation and the letter sent by the San Rafael Swell subgroup to the Price Field Office commenting on their draft RMP; and, a presentation on the cooperative management of the Coral Pink Sand Dunes.

Also, on January 26, the GSENMAC will be discussing grazing issues; Monument updates and emerging issues (budget specifics); EIS; grazing subcommittee final draft; science subcommittee final draft; and, a discussion on education and outreach.

On January 27, the GSENMAC and RAC will have a joint meeting to discuss the history and roles of the GSENMAC and RAC, along with addressing current issues and accomplishments. A short course on Utah's Water Laws will be given, and an overview of What's Happening in Utah. The GSENMAC will continue their meeting until 4:30 p.m.

All meetings are open to the public; however, transportation, lodging, and meals are the responsibility of the participating public.

Dated: December 21, 2004.
Sally Wisely,
Director.

[FR Doc. 04-28662 Filed 12-30-04; 8:45 am]

BILLING CODE 4310-$$-M